Title 3—

The President

Proclamation 9592 of April 14, 2017

National Park Week, 2017

By the President of the United States of America

A Proclamation

This year we celebrate National Park Week as the National Park Service begins its second century as a critical guardian of America's Federal public lands. During National Park Week, national parks across our country waive their entrance fees and welcome all explorers to experience, as past generations have, the history and splendor of our Nation's treasures.

The national park system started with a painting. In 1872, Thomas Moran painted The Grand Canyon of the Yellowstone, presented it to the Congress, and captivated countless Americans. Inspired by Moran's beautiful illustration and western explorers' stories, photographs, and sketches, the Congress and President Ulysses S. Grant enacted the Yellowstone National Park Protection Act. This law established Yellowstone as the world's first national park and transformed how we protect many of our Nation's landmarks.

Forty years later, President Theodore Roosevelt, known as the “Conservation President,” established Crater Lake, Oregon, as our fifth national park. During his presidency, Roosevelt doubled the number of national parks, designating, in addition to Crater Lake: Wind Cave, South Dakota; Sullys Hill, North Dakota; Mesa Verde, Colorado; and Platt, Oklahoma. Given his instrumental role in expanding our national park system, it is fitting that his likeness endures at Mount Rushmore National Memorial.

Today, visitors from around the world travel to our Nation's 59 national parks to climb snow-capped peaks, splash under majestic falls, rappel into the deepest canyons, and find peace in shaded forests. Our parks routinely provide visitors with unforgettable, sometimes life-changing experiences. From their unsurpassed beauty to their unmatched physical challenges, our parks capture the spirit of America's pioneering history. They symbolize our ongoing commitment to the preservation of our land and wildlife, and they set the conservation standard for the rest of the world.

It is a priority of my Administration to protect these magnificent lands, and to ensure all Americans have access to our national parks, as well as to other National Park Service sites, throughout the next century. For this reason, I chose to donate the first portion of my salary as President to the American Battlefield Protection Program, which the National Park Service uses to preserve significant American battlefields. It is my hope that we will pass down these natural and historic sites to our children and grandchildren.

NOW, THEREFORE, I, DONALD J. TRUMP, President of the United States of America, by virtue of the authority vested in me by the Constitution and the laws of the United States, do hereby proclaim April 15 through April 23, 2017, as National Park Week. I encourage all Americans to celebrate by visiting our national parks and learning more about the natural, cultural, and historical heritage that belongs to each and every citizen of the United States of America.

IN WITNESS WHEREOF, I have hereunto set my hand this fourteenth day of April, in the year of our Lord two thousand seventeen, and of the Independence of the United States of America the two hundred and forty-first.

[FR Doc. 2017-08071

Filed 4-18-17; 11:15 am]

Billing code 3295-F7-P